DEPARTMENT OF JUSTICE

Antitrust Division

Notice Pursuant to the National Cooperative Research and Production Act of 1993—Management Service Providers Association, Inc.

Notice is hereby given that, on July 31, 2002, pursuant to section 6(a) of the National Cooperative Research and Production Act of 1993, 15 U.S.C. 4301 et seq. (“the Act”), Management Service Providers Association, Inc. has filed written notifications simultaneously with the Attorney General and the Federal Trade Commission disclosing changes in its membership status. The notifications were filed for the purpose of extending the Act's provisions limiting the recovery of antitrust plaintiffs to actual damages under specified circumstances. Specifically, Wipro Technologies, Electronics City, Bangalore, INDIA; HCL Techonologies America, Inc., Sunnyvale, CA; Consonus, Salt Lake City, UT; Emtec Inc., Mount Laurel, NJ; and Interprom USA, Houston, TX have been added as parties to this venture. Telecom Italia Lab, Torino, Italy; Hub Information Technology Ltd., Grosvenor Place, Sydney, New South Wales, Australia; Interloci, Greenwich, CT; Integris, Bellerica, MA; Loudcloud, Sunnyvale, CA; Progress Software Corp., Bedford, MA; Netvien Corp., Santa Clara, CA; and ISP Co., LTD, Kangriam-ku, Seoul, Republic of Korea have been dropped as parties to this venture. Also, Omegon, Somerset, NJ has changed its name to Viola Networks; and the membership of SiteROCK, Emeryville, CA has been acquired by Avasta, Inc., San Francisco, CA.

No other changes have been made in either the membership or planned activity of the group research project. Membership in this group research project remains open, and Management Service Providers Association, Inc. intends to file additional written notification disclosing all changes in membership.

On October 20, 2000, Management Service Providers Association, Inc. filed its original notification pursuant to Section 6(a) of the Act. The Department of Justice published a notice in the Federal Register pursuant to section 6(b) of the Act on November 24, 2000 (65 FR 70613).

The last notification was filed with the Department on May 3, 2002. A notice was published in the Federal Register pursuant to section 6(b) of the Act on June 18, 2002 (67 FR 41483).

Constance K. Robinson,
Director of Operations, Antitrust Division.

[FR Doc. 02-23114 Filed 9-11-02; 8:45 am]

BILLING CODE 4410-11-M